DEPARTMENT OF ENERGY

Federal Energy Regulatory Commission

Combined Notice of Filings #1

Take notice that the Commission received the following electric rate filings:

Docket Numbers: ER17-2558-000.

Applicants: NTE Ohio, LLC.

Description: Amendment to September 28, 2017 NTE Ohio, LLC tariff filing.

Filed Date: 11/29/17.

Accession Number: 20171129-5157.

Comments Due: 5 p.m. ET 12/20/17.

Docket Numbers: ER18-347-000.

Applicants: FirstEnergy Solutions Corp.

Description: Compliance filing: Compliance filing 2017 to be effective 6/1/2017.

Filed Date: 11/29/17.

Accession Number: 20171129-5122.

Comments Due: 5 p.m. ET 12/20/17.

Docket Numbers: ER18-348-000.

Applicants: Shoe Creek Solar LLC.

Description: Baseline eTariff Filing: Application for Market-Based Rate Authority, Waiver and Blanket Authorization to be effective 11/30/2017.

Filed Date: 11/29/17.

Accession Number: 20171129-5126.

Comments Due: 5 p.m. ET 12/20/17.

Docket Numbers: ER18-349-000.

Applicants: New England Power Company, ISO New England Inc.

Description: § 205(d) Rate Filing: Filing of Unexecuted LGIA-ISONE/NEP-17-01 to be effective 11/30/2017.

Filed Date: 11/29/17.

Accession Number: 20171129-5142.

Comments Due: 5 p.m. ET 12/20/17.

Take notice that the Commission received the following electric securities filings:

Docket Numbers: ES18-11-000.

Applicants: AEP Appalachian Transmission Company, Inc., AEP Indiana Michigan Transmission Company, Inc., AEP Kentucky Transmission Company, Inc., AEP Oklahoma Transmission Company, Inc., AEP Southwestern Transmission Company, Inc., AEP West Virginia Transmission Company, Inc.

Description: Application Under Section 204 of the Federal Power Act For Authorization to Issue Securities of AEP Appalachian Transmission Company, Inc. et al.

Filed Date: 11/29/17.

Accession Number: 20171129-5148.

Comments Due: 5 p.m. ET 12/20/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 30, 2017.
Nathaniel J. Davis, Sr.,
Deputy Secretary.

[FR Doc. 2017-26240 Filed 12-5-17; 8:45 am]

BILLING CODE 6717-01-P